DEPARTMENT OF THE INTERIOR

National Park Service

[2253-665]

Notice of Inventory Completion: Sabine River Authority of Texas, Quitman, TX

AGENCY: National Park Service, Interior.

ACTION: Notice.

Notice is here given in accordance with the Native American Graves Protection and Repatriation Act (NAGPRA), 25 U.S.C. 3003, of the completion of an inventory of human remains and associated funerary objects in the control of Sabine River Authority of Texas, Quitman, TX. The human remains and associated funerary objects were removed from Hunt County, TX.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

A detailed assessment of the human remains was made by University of North Texas and the Sabine River Authority of Texas professional staff in consultation with representatives of the Caddo Nation of Oklahoma; Comanche Nation, Oklahoma; and the Wichita and Affiliated Tribes (Wichita, Keechi, Waco and Tawakonie), Oklahoma.

On or about June 16, 2006, human remains representing a minimum of one individual were removed from the lakebed of Lake Tawakoni, in Hunt County, TX, by an unknown person. The remains were exposed due to drought related low water levels in Lake Tawakoni in the Caddo Inlet, and subsequently reported to the Hunt County Sheriff's Department. The Sheriff's Department sent the remains to the University of North Texas, Denton, TX, for forensic evaluation. The human remains and non-human bone fragments, which are considered to be associated funerary objects, were turned over to the Sabine River Authority of Texas on July 6, 2006. No known individual was identified. The 20 associated funerary objects are non-human bone fragments.

Dr. Harrell Gill-King, Anthropologist, University of North Texas, performed an examination of the human and non-human remains at the request of the Hunt County Sheriff's Department. Dr. King's investigation determined that the human remains are of a 30-50-year-old male of Native American ancestry and estimated to be over 200 years old.

The Texas Historical Commission suggested that the Caddo Nation of Oklahoma; Comanche Nation, Oklahoma; and the Wichita and Affiliated Tribes, Oklahoma, may have inhabited the region approximately 200-300 years ago. Following initial correspondence with the Indian tribes, the Wichita and Affiliated Tribes have indicated that the remains are affiliated with their tribe based on the age of the remains and the tribe's presence in the area during that time period. The Caddo Nation of Oklahoma agreed that the age of the remains and their location at the edge of the Caddo Nation's original homelands, indicated that the remains were likely to be affiliated with the Wichita and Affiliated Tribes. The Comanche Nation, Oklahoma indicated that if the remains were buried 200 years ago, then the remains were probably not affiliated with the Comanche Nation.

Officials of the Sabine River Authority of Texas have determined, pursuant to 25 U.S.C. 3001(9), that the human remains described above represent the physical remains of one individual of Native American ancestry. Officials of the Sabine River Authority of Texas also have determined, pursuant to 25 U.S.C. 3001(3)(A), that the 20 objects described above are reasonably believed to have been placed with or near individual human remains at the time of death or later as part of the death rite or ceremony. Lastly, officials of the Sabine River Authority of Texas have determined, pursuant to 25 U.S.C. 3001(2), that there is a relationship of shared group identity that can be reasonably traced between the Native American human remains and associated funerary objects and the Wichita and Affiliated Tribes, Oklahoma.

Representatives of any other Indian tribe that believes itself to be culturally affiliated with the human remains and associated funerary objects should contact Melvin Swoboda, Sabine River Authority of Texas, P.O. Box 579, Orange, TX 77631-0579, telephone (409) 746-2192, before April 14, 2011. Repatriation of the human remains and associated funerary objects to the Wichita and Affiliated Tribes, Oklahoma, may proceed after that date if no additional claimants come forward.

Sabine River Authority of Texas is responsible for notifying the Caddo Nation of Oklahoma; Comanche Nation, Oklahoma; and the Wichita and Affiliated Tribes, Oklahoma, that this notice has been published.

Dated: March 9, 2011.
Sherry Hutt,
Manager, National NAGPRA Program.

[FR Doc. 2011-5881 Filed 3-14-11; 8:45 am]

BILLING CODE 4312-50-P